DEPARTMENT OF TRANSPORTATION

National Highway Traffic Safety Administration

[Docket No. NHTSA-2020-0036; Notice 1]

Toyota Motor North America, Inc., Receipt of Petitions for Decision of Inconsequential Noncompliance

AGENCY: National Highway Traffic Safety Administration (NHTSA), Department of Transportation (DOT).

ACTION: Receipt of petitions.

SUMMARY: Toyota Motor North America, Inc. (TMNA) on behalf of Toyota Motor Corporation (TMC) (collectively referred to as “Toyota”) has determined that certain replacement seat belt assemblies manufactured by Tokai Rika Mexico and Joyson Safety Systems and sold to Toyota dealerships as replacement equipment do not fully comply with Federal Motor Vehicle Safety Standard (FMVSS) No. 209, Seat Belt Assemblies. Toyota filed two noncompliance reports, both dated May 4, 2020. Toyota subsequently submitted two petitions to NHTSA both dated May 28, 2020, for a decision that the subject noncompliance is inconsequential as it relates to motor vehicle safety. This notice announces receipt of Toyota's petition.

DATES: Send comments on or before April 22, 2021.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petitions are granted or denied, notice of the decisions will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

SUPPLEMENTARY INFORMATION: I. Overview: Toyota has determined that certain replacement seat belt assemblies manufactured by Tokai Rika Mexico and Joyson Safety Systems and sold to Toyota dealerships as replacement equipment do not fully comply with the requirements of paragraph S4.1(k) and (l) of FMVSS No. 209, Seat Belt Assemblies (49 CFR 571.209). Toyota filed two noncompliance reports both dated May 4, 2020, pursuant to 49 CFR part 573, Defect and Noncompliance Responsibility and Reports. Toyota subsequently submitted two petitions to NHTSA both dated May 28, 2020, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Toyota's petitions is published under 49 U.S.C. 30118 and 30120 and does not represent any Agency decision or other exercise of judgment concerning the merits of the petition.

II. Equipment Involved: Approximately 37 Tokai Rika Mexico replacement seat belt assemblies manufactured between March 1, 2019, and April 15, 2020, and approximately 97,550 Joyson Safety Systems replacement seat belt assemblies manufactured between July 18, 1997, and February 25, 2020, are potentially involved.

III. Noncompliance: Toyota explains that the noncompliance involves seatbelt assemblies sourced to Toyota dealerships by Tokai Rika Mexico and Joyson Safety Systems for use or subsequent resale to dealership customers as replacement equipment. Specifically, certain replacement seat belt assemblies were sold with missing or incorrect “Installation instructions” and “Usage and maintenance instructions” and therefore, do not meet all applicable requirements specified in paragraph S4.1(k) and (l) of FMVSS No. 209.

IV. Rule Requirements: Paragraph S4.1(k) and (l) of FMVSS No. 209 include the requirements relevant to this petition. A seat belt assembly, other than a seat belt assembly installed in a motor vehicle by an automobile manufacturer, shall be accompanied by an instruction sheet providing sufficient information for installing the assembly in a motor vehicle. A seat belt assembly or retractor shall be accompanied by written instructions for the proper use of the assembly, stressing particularly the importance of wearing the assembly snugly and properly located on the body, and on the maintenance of the assembly and periodic inspection of all components.

V. Summary of Toyota's Petition: The following views and arguments presented in this section, V. Summary of Toyota's Petition, are the views and arguments provided by Toyota. They have not been evaluated by the Agency and do not reflect the views of the Agency. Toyota described the subject noncompliance and stated their belief that the noncompliance is inconsequential as it relates to motor vehicle safety.

In support of its petition, Toyota submitted the following reasoning:

1. The subject seat belt assemblies were sold only by Toyota dealerships. Due to the dealerships' replacement parts ordering system and the parts packaging, improper replacement seat belt assembly selection would not likely occur.

Toyota stated that it is unlikely that the subject replacement seat belt assemblies would be selected for an incorrect seating position as a result of this issue. The subject assemblies were only sold by Toyota dealerships. The parts ordering system clearly indicates the part and enables identification of the appropriate model vehicle and seating position for which the assembly is intended to be installed. When selecting a replacement part, the dealerships can search by Vehicle Identification Number (VIN), part number, and vehicle model. They can also see a diagram of the part location via the Electronic Parts Catalog. In addition, the part can be identified by the label on the box and the old part can be compared to the new part. The label on the box in which the replacement seat belt is packaged specifies the part number and part description.

Because of the Toyota dealerships' robust part ordering system and the additional label on the box, it is unlikely that an incorrect seat belt would be provided or used as a replacement part. The missing instruction sheet has no effect on a dealership's ability to provide the correct replacement part ordered or on the installer's ability to correctly identify the appropriate replacement part.

2. The improper installation of the seat belt assembly is unlikely. Dealership technicians and third-party installers can access Toyota's electronic repair manual and other aftermarket manuals.

It is unlikely that an improper installation of a replacement seat belt would occur as a result of a missing instruction sheet. First, if the instruction sheet is missing from the box, the installer would likely obtain the correct installation information from a different source or would return the part to the dealer.

Second, after identifying that the part does not have the installation instruction sheet, the installer could return the part to the dealer, request the installation instructions from the dealer, or consult other sources of installation instructions that are readily available. Technicians at Toyota dealerships have access to Toyota's electronic repair manual. Third-party installers have access to various aftermarket repair manuals and can obtain access to Toyota's electronic repair manual. Finally, the installer can also request a copy of the installation instructions from Toyota; and it would be provided free of charge.

Third, the subject assemblies themselves have characteristics that discourage incorrect installation. Because the subject seat belts are not universal type seat belts, they are intended to be used to replace specific seat belts in specific seating positions. Thus, the installation procedure is the reverse of part removal. Further, Toyota believes that it is unlikely that the subject seat belts can be installed properly in an incorrect seating position.

All of the Tokai Rika Mexico seat belt assemblies are intended to be used as replacement equipment for the model year (MY) 2020 Corolla rear seat. Toyota determined that these seat belt assemblies cannot be properly installed in any of the other MY 2020 Corolla seating positions and are not used on any other Toyota or Lexus models.

Concerning the Joyson Safety Systems seat belt assemblies, based on the audits Toyota conducted of the replacement seat belt assemblies in its parts distribution centers, Toyota identified 27 different replacement seat belt assembly models that had incorrect instruction sheets. While there could be other variations not identified in these audits, Toyota determined that the seat belt assemblies identified in these audits could not be properly installed in the location specified by the incorrect instruction sheet. In addition, the torque value for structurally mounting the seat belt assemblies is a standard value and is correct regardless of which instruction sheet is used (42Nm). Because these torque values are common, even if the technician uses the torque values from the wrong installation instruction sheet, the torque value will still be correct.

For these reasons, it is unlikely that the subject seat belt assemblies would be improperly installed.

3. The replacement seat belt assemblies are intended to replace the original equipment seat belts. The owner's manual for each vehicle contains the seat belt usage and maintenance instructions.

It is unlikely that an improper use or maintenance of a replacement seat belt would occur as a result of a missing or incorrect instruction sheet. The affected seat belt assemblies are designed to replace the originally equipped seat belts in specific Toyota vehicles. All of the vehicle models for which these replacement seat belt assemblies were designed were originally equipped with an owner's manual that contains usage and maintenance instructions for these seat belt assemblies. Thus, the vehicle owner has access to the usage and maintenance instructions and would not need to refer to the instruction sheet for this information.

4. The seat belts comply with all other requirements of FMVSS No. 209.

The missing or incorrect instruction sheets have no bearing on the materials or performance of the replacement seat belt assembly itself. Thus, the assemblies continue to meet the other performance requirements specified in FMVSS No. 209. There is no impact to performance, functionality, or occupant safety.

5. Toyota is unaware of allegations of missing instruction sheets.

Toyota has searched its records for allegations of missing instruction sheets concerning the subject replacement seat belt assemblies. As of April 23, 2020, no owner complaints, field reports, warranty claims, legal claims, or dealer technical assistance calls concerning the missing installation instruction sheets were found.

6. In similar situations, NHTSA has granted petitions for inconsequential noncompliance relating to the subject requirement of FMVSS No. 209.

NHTSA has previously granted at least seven similar petitions for inconsequential noncompliance for missing or incorrect instruction sheets for certain replacement seat belt assemblies. These include: FCA US LLC (84 FR 20948, May 13, 2019); Mitsubishi Motors North America, Inc., (77 FR 24762, April 25, 2012); Bentley Motors, Inc. (76 FR 58343, September 20, 2011); Hyundai Motor Company (74 FR 9125, March 2, 2009); Ford Motor Company, (73 FR 11462, March 3, 2008); Mazda North American Operations (73 FR 11464, March 3, 2008); and Subaru of America, Inc. (65 FR 67471, November 9, 2000).

Toyota's complete petition and all supporting documents are available by logging onto the Federal Docket Management System (FDMS) website at https://www.regulations.gov and by following the online search instructions to locate the docket number as listed in the title of this notice.

Toyota concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the equipment that Toyota no longer controlled at the time it determined that the noncompliance existed. However, any decision on this petition does not relieve equipment distributors and dealers of the prohibitions on the sale, offer for sale, or introduction or delivery for introduction into interstate commerce of the noncompliant seat belt assemblies under their control after Toyota notified them that the subject noncompliance existed.

Authority: 49 U.S.C. 30118, 30120: delegations of authority at 49 CFR 1.95 and 501.8

Otto G. Matheke III,
Director, Office of Vehicle Safety Compliance.

[FR Doc. 2021-05921 Filed 3-22-21; 8:45 am]

BILLING CODE 4910-59-P